DEPARTMENT OF HEALTH AND HUMAN SERVICES

Meeting of the Presidential Advisory Council on Combating Antibiotic-Resistant Bacteria

AGENCY: Office of the Assistant Secretary for Health, Office of the Secretary, Department of Health and Human Services.

ACTION: Notice.

SUMMARY: As stipulated by the Federal Advisory Committee Act, the Department of Health and Human Services (HHS) is hereby giving notice that a meeting is scheduled to be held for the Presidential Advisory Council on Combating Antibiotic-Resistant Bacteria (PACCARB). The meeting will be open to the public; a pre-registered public comment session will be held during the meeting. Pre-registration is required for members of the public who wish to attend the meeting and who wish to participate in the public comment session. Individuals who wish to attend the meeting and/or send in their public comment via email should send an email to CARB@hhs.gov. Registration information is available on the website http://www.hhs.gov/paccarb and must be completed by September 5, 2022; all in-person attendees must pre-register by this date and will be given priority over unregistered attendees. Additional information about any updates to COVID-19 safety precautions or requirements, including how to register for the meeting and provide public comment, can be obtained at http://www.hhs.gov/paccarb on the Meetings page. Please visit the page for frequent updates.

DATES: The meeting is tentatively scheduled to be held on September 12, from 9:00 a.m. to 5:00 p.m., and September 13, 2022, from 9:00 a.m. to 5:00 p.m. ET (all times are subject to change). The confirmed times and agenda items for the meeting will be posted on the website for the PACCARB at http://www.hhs.gov/paccarb when this information becomes available. Pre-registration for attending the meeting in person is required to be completed no later than September 5, 2022; public attendance at the meeting is limited to the available space.

ADDRESSES: Tysons Corner Marriott, 8028 Leesburg Pike, Tysons Corner, Virginia 22182. The meeting can also be accessed through a live webcast and via teleconference on the day of the meeting. For more information, visit http://www.hhs.gov/paccarb.

FOR FURTHER INFORMATION CONTACT: Jomana Musmar, M.S., Ph.D., Designated Federal Officer, Presidential Advisory Council on Combating Antibiotic-Resistant Bacteria, Office of the Assistant Secretary for Health, U.S. Department of Health and Human Services, Room L616, Switzer Building, 330 C St. SW, Washington, DC 20201. Email: CARB@hhs.gov. Telephone: (202) 746-1512.

SUPPLEMENTARY INFORMATION: The Presidential Advisory Council on Combating Antibiotic-Resistant Bacteria (PACCARB), established by Executive Order 13676, is continued by Section 505 of Public Law 116-22, the Pandemic and All-Hazards Preparedness and Advancing Innovation Act of 2019 (PAHPAIA). Activities and duties of the Advisory Council are governed by the provisions of the Federal Advisory Committee Act (FACA), Public Law 92-463, as amended (5 U.S.C. App.), which sets forth standards for the formation and use of federal advisory committees.

The PACCARB shall advise and provide information and recommendations to the Secretary regarding programs and policies intended to reduce or combat antibiotic-resistant bacteria that may present a public health threat and improve capabilities to prevent, diagnose, mitigate, or treat such resistance. The PACCARB shall function solely for advisory purposes.

Such advice, information, and recommendations may be related to improving: The effectiveness of antibiotics; research and advanced research on, and the development of, improved and innovative methods for combating or reducing antibiotic resistance, including new treatments, rapid point-of-care diagnostics, alternatives to antibiotics, including alternatives to animal antibiotics, and antimicrobial stewardship activities; surveillance of antibiotic-resistant bacterial infections, including publicly available and up-to-date information on resistance to antibiotics; education for health care providers and the public with respect to up-to-date information on antibiotic resistance and ways to reduce or combat such resistance to antibiotics related to humans and animals; methods to prevent or reduce the transmission of antibiotic-resistant bacterial infections; including stewardship programs; and coordination with respect to international efforts in order to inform and advance the United States capabilities to combat antibiotic resistance.

The September 12-13, 2022 public meeting will be dedicated to a One Health AMR and Pandemic Preparedness Policy Workshop with the goal of identifying key issues and critical policy gaps through a series of facilitated discussions examining a hypothetical large-scale disease outbreak scenario based on historic examples and estimates of future AMR outbreaks. The meeting agenda will be posted on the PACCARB website at http://www.hhs.gov/paccarb when it has been finalized. All agenda items are tentative and subject to change.

Public attendance at the meeting is limited to the available space. Individuals who plan to attend and need special assistance, such as sign language interpretation or other reasonable accommodations, should notify the PACCARB by emailing CARB@hhs.gov at least one week prior to the meeting. For those unable to attend in person, a live webcast will be available. More information on registration and accessing the webcast can be found at http://www.hhs.gov/paccarb.

Members of the public will have the opportunity to provide comments during and prior to the PACCARB meeting by indicating their preference in their registration available on the PACCARB website at http://www.hhs.gov/paccarb and/or by emailing CARB@hhs.gov. Public comments can also be sent in by mail, and if so, correspondence should be sent in by midnight September 5, 2022, and should be limited to no more than one page. All public comments received prior to September 5, 2022, will be provided to PACCARB members. Additionally, companies and/or organizations involved in combating antibiotic resistance have an opportunity to present their work to members of the PACCARB during an Innovation Spotlight. Pre-registration is required for participation, with limited spots available. All information regarding this session can also be found online at http://www.hhs.gov/paccarb.

Dated: May 13, 2022.
Jomana F. Musmar,
Designated Federal Officer, Presidential Advisory Council on Combating Antibiotic-Resistant Bacteria, Office of the Assistant Secretary for Health.

[FR Doc. 2022-10990 Filed 5-20-22; 8:45 am]

BILLING CODE 4150-44-P